FARM CREDIT ADMINISTRATION

Proposed Guidelines for Ensuring and Maximizing the Quality, Objectivity, Utility, and Integrity of Information Disseminated by the Farm Credit Administration

AGENCY: Farm Credit Administration.

ACTION: Notice of availability of proposed guidelines.

SUMMARY: Section 515 of the Treasury and General Government Appropriations Act for Fiscal Year 2001 (Public Law 106-554; H.R. 5658) requires all Federal agencies to issue guidelines ensuring and maximizing the quality, objectivity, utility, and integrity of the information (including statistical information) that they disseminate. Agencies are required to issue their guidelines within 1 year after the Office of Management and Budget (OMB) issued procedural guidance to them. See 66 FR 49718, September 28, 2001. OMB's final guidance requires agencies to post their draft guidelines on their Web sites by May 1, 2002. The agencies are also required to publish a notice of the availability of their draft guidelines in the Federal Register. See 67 FR 369, January 3, 2002. The Farm Credit Administration (FCA) is hereby publishing notice of the availability of its draft guidelines on its Web site at http://www.fca.gov as of May 1, 2002.

DATES: Please send your comments to FCA by May 31, 2002.

ADDRESSES: You may send comments on the draft guidelines by electronic mail to Doug Valcour at valcourd@fca.gov. You may also mail or deliver written comments to Doug Valcour, Chief Information Officer, Office of Chief Information Officer, Farm Credit Administration, 1501 Farm Credit Drive, McLean, Virginia 22102-5090 or fax them to (703) 734-5784. You may review copies of all comments we receive in the Office of Chief Information Officer, Farm Credit Administration.

FOR FURTHER INFORMATION CONTACT: Cheryl Thomas, Director, Information Management Division, Office of Chief Information Officer, Farm Credit Administration, McLean, VA 22102-5090, (703) 883-4119, TDD (703) 883-4444; or Doug Valcour, Chief Information Officer, Office of Chief Information Officer, Farm Credit Administration, 1501 Farm Credit Drive, McLean, Virginia 22102-5090, (703) 883-4166, TDD (703) 883-4444.

Dated: April 26, 2002.
Kelly Mikel Williams,
Secretary, Farm Credit Administration.

[FR Doc. 02-10721 Filed 4-30-02; 8:45 am]

BILLING CODE 6705-01-P